FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington, DC 20551-0001, not later than February 25, 2026.

A. Federal Reserve Bank of St. Louis (Holly A. Rieser, Senior Manager) P.O. Box 442, St. Louis, Missouri 63166-2034. Comments can also be sent electronically to Comments.applications@stls.frb.org:

1. Gayla Shanks; Billy Shanks; Dustin Shanks, individually and as custodian of his one minor child; Holly Tanner, individually and as custodian of her one minor child; and Kelly Downs, individually and as custodian of her two minor children, all of Trenton, Kentucky; as the Shanks Family Control Group, a group acting in concert, to retain voting shares of Todd Bancshares, Inc., and thereby indirectly retain voting shares of United Southern Bank, both of Hopkinsville, Kentucky.

2. Dorothy Buckley Estate, Pat Sholar and Augustus Sholar as executors; Pat Sholar; Ann Osborn; Hank Sholar; Jean Ann Sholar; Augustus Sholar; Mary Kathryn Sholar, individually and as custodian of her two minor children; Will Osborn; Patrick Hampton Osborn; and Briann Griffith, individually and as custodian of her two minor children, all of Trenton, Kentucky, as the Buckley Family Control Group, a group acting in concert, to retain voting shares of Todd Bancshares, Inc., and thereby indirectly retain voting shares of United Southern Bank, both of Hopkinsville, Kentucky.

3. Paul Hampton, Chad Hampton, Diana Hampton, and Jase Paul Hampton, all of Pembroke, Kentucky, and Chandler Hampton, Peyton Blackmon, and Paul Reno Hampton, Jr., all of Trenton, Kentucky; as the Hampton Family Control Group, a group acting in concert, to retain voting shares of Todd Bancshares, Inc., and thereby indirectly retain voting shares of United Southern Bank, both of Hopkinsville, Kentucky.

4. BAMB Limited Partnership, LLLP, with Nina Marie (“Molly”) Harsh Burns Revocable Trust and the Robert L. Burns Revocable Trust as general partners, and Nina Marie “Molly” Harsh Burns as trustee of both general partner trusts, all of Magnolia, Arkansas; to join the Harsh Family Control Group, a group acting in concert, to retain voting shares of Magnolia Banking Corporation, and thereby indirectly retain voting shares of Farmers Bank & Trust Company, both of Magnolia, Arkansas.

Board of Governors of the Federal Reserve System.
Michele Taylor Fennell,
Associate Secretary of the Board.

[FR Doc. 2026-02602 Filed 2-9-26; 8:45 am]

BILLING CODE P